DEPARTMENT OF DEFENSE

Office of the Secretary

[Transmittal No. 16-48]

Arms Sales Notification

AGENCY: Defense Security Cooperation Agency, Department of Defense.

ACTION: Arms sales notice.

SUMMARY: The Department of Defense is publishing the unclassified text of an arms sales notification.

FOR FURTHER INFORMATION CONTACT: Pamela Young, (703) 697-9107, pamela.a.young14.civ@mail.mil or Kathy Valadez, (703) 697-9217, kathy.a.valadez.civ@mail.mil; DSCA/DSA-RAN.

SUPPLEMENTARY INFORMATION: This 36(b)(1) arms sales notification is published to fulfill the requirements of section 155 of Public Law 104-164 dated July 21, 1996. The following is a copy of a letter to the Speaker of the House of Representatives, Transmittal 16-48 with attached Policy Justification.

Dated: April 12, 2018.
Shelly E. Finke,
Alternate OSD Federal Register Liaison Officer, Department of Defense.

Transmittal No. 16-48

Notice of Proposed Issuance of Letter of Offer Pursuant to Section 36(b)(1) of the Arms Export Control Act, as amended

(i) Prospective Purchaser: The Kingdom of Saudi Arabia

(ii) Total Estimated Value:

Major Defense Equipment* | $0.15 billion
Other | $1.16 billion
TOTAL | $1.31 billion

(iii) Description and Quantity or Quantities of Articles or Services under Consideration for Purchase:

Major Defense Equipment (MDE):

One hundred and eighty (180) 155mm M109A5/A6 Medium Self-Propelled Howitzer structures for conversion to one hundred and seventy-seven (177) 155mm M109A6 Paladin Medium Self-Propelled Howitzer systems

Three (3) Fire Support Combined Arms Tactical Trainers (FSCATT) static training devices

One hundred and eighty (180) M2 HB .50 Cal Machine Guns

Eight (8) Advanced Field Artillery Tactical Data Systems (AFATDS)

Non-MDE: Also included are M109A5/A6 overhaul, conversion and refurbishment services; Special Tools and Test Equipment; Basic Issue Items (BII); Driver's Vision Enhancer (DVE) Wide system; Program Management Support; Verification Testing; System Technical Support; Transportation; spare and repair parts; communications equipment; personnel training and training equipment; tool and test equipment; repair and return; publications and technical documentation; Quality Assurance Team (QAT); U.S. Government and contractor engineering; technical and logistics support services; and other related elements of logistics and program support.

(iv) Military Department: Army (VTG)

(v) Prior Related Cases, if any: SR-B-VFM and SR-B-VAZ

(vi) Sales Commission, Fee, etc., Paid, Offered, or Agreed to be Paid: None

(vii) Sensitivity of Technology Contained in the Defense Article or Defense Services

Proposed to be Sold: See Annex attached.

(viii) Date Report Delivered to Congress: April 5, 2018

* as defined in Section 47(6) of the Arms Export Control Act.

POLICY JUSTIFICATION

The Kingdom of Saudi Arabia—155mm M109A6 Paladin Medium Self-Propelled Howitzer System

The Government of Saudi Arabia has requested a possible sale of one hundred and eighty (180) 155mm M109A5/A6 Medium Self-Propelled Howitzer structures for conversion to one hundred and seventy-seven (177) 155mm M109A6 Paladin Medium Self-Propelled Howitzer systems; three (3) Fire Support Combined Arms Tactical Trainers (FSCATT) static training devices; one hundred and eighty (180) M2 HB .50 Cal Machine Guns; and eight (8) Advanced Field Artillery Tactical Data Systems (AFATDS). Also included are M109A5/A6 overhaul, conversion and refurbishment services; Special Tools and Test Equipment; Basic Issue Items (BII); Driver's Vision Enhancer (DVE) Wide system; Program Management Support; Verification Testing; System Technical Support; Transportation; spare and repair parts; communications equipment; personnel training and training equipment; tool and test equipment; repair and return; publications and technical documentation; Quality Assurance Team (QAT); U.S. Government and contractor engineering; technical and logistics support services; and other related elements of logistics and program support. The estimated cost is $1.31 billion.

This proposed sale will contribute to the foreign policy and national security of the United States by helping to improve the security of an important partner which has been and continues to be a leading contributor of political stability and economic progress in the Middle East. This sale will increase the Royal Saudi Land Force's (RSLF) interoperability with U.S. forces and conveys U.S. commitment to Saudi Arabia's security and armed forces modernization.

The proposed sale will improve Saudi Arabia's capability to meet current and future threats and provide greater security for its border regions and critical infrastructure. The RSLF currently has M109A2, A3 and A5 howitzers in its inventory. These additional modernized howitzers will enhance Saudi Arabia's ability to support its deployed forces and defend its borders. Saudi Arabia will have no difficulty absorbing these vehicles into its armed forces.

The prime contractor for this requirement is unknown at this time. There are no known offset agreements in connection with this potential sale.

Implementation of this proposed sale will not require the assignment of any additional U.S. or contractor representatives to Saudi Arabia. Support teams will travel to the country on a temporary basis.

There will be no adverse impact on U.S. defense readiness as a result of this proposed sale.

Transmittal No. 16-48

Notice of Proposed Issuance of Letter of Offer Pursuant to Section 36(b)(1) of the Arms Export Control Act

Annex

Item No. vii

(vii) Sensitivity of Technology:

1. This sale will involve the release of sensitive technology to Saudi Arabia. The RSLF seeks to purchase the 155mm M109A6 Paladin Medium Self-Propelled Howitzer system. The Paladin M109A6 howitzer is the fourth product improvement to the original M109 self-propelled howitzer. It features improvements in the areas of survivability, reliability, availability, maintainability, responsiveness, and terminal effects. The M109A6 is an armored, full tracked howitzer carrying 37 complete conventional rounds and two Copperhead projectiles and operated by a crew of four. It is designed with a new turret structure that facilitates integration of the various turret improvements and vulnerability reduction measures. It improves overall crew compartment layout and space. The howitzer can travel at a maximum speed of 38 miles per hour and has a maximum cruising range of 186 miles. The Ml09A6 can operate independently, from on the move, it can receive a fire mission, compute firing data, select and take up its firing position, automatically unlock and point its cannon, fire and move—all without external technical assistance. Firing the first round following a move in under 60 seconds, a “shoot and scoot” capability protects the crew from counterbattery fire. The M109A6 is capable of firing up to four rounds per minute to ranges of 30 kilometers. The Ml09A6 features increased survivability characteristics such as day/night operability and Nuclear, Biological, Chemical (NBC) protection with climate control and secure voice and digital communications. The crew remains in the vehicle throughout the mission.

2. The Electronic Fire Control System (EFCS). Commonly referred to as the Paladin Fire Control System (PFCS), it is the major change for the Paladin M109A6 Howitzer from the manual fire control system used on the M109A5. The integrated electronic digital Fire Control System includes an Embedded Trainer. It gives the howitzer the ability to operate over a widely dispersed area and to move and emplace using the onboard fire control system (Dynamic Reference Unit Hybrid Replacement Inertial Navigation System) and a plug-in AN/PCN-13A Defense Advanced Global Positioning System Receiver with a Selective Availability Anti-spoofing Module (SAASM). The M109A6 can move and position within an assigned position area, process technical firing data, and fire a mission without relying on aiming circles and wire lines. The M109A6 can change position more frequently, an advantage against enemy fire.

3. The Advanced Field Artillery Tactical Data System (AFATDS) provides the multi-service automated Fire Support Command, Control and Communications portion of the Army Battle Command System (ABCS). AFATDS enables the maneuver commander to plan and execute attacks on the right target, at the right time, with the right weapons system, and the right munitions. It provides for maximum utilization of the fire support assets available on an expanding battlefield. It supports the close, deep, and rear battle fire support requirements of land and littoral doctrine. AFATDS is designed for full interoperability with the other ABCS Battlefield Functional Areas as well as with the Fire Support capabilities of the Navy's Joint Maritime Command Information System (JMCIS) and the Air Force's Theater Battle Management Core System (TBMCS).

4. The Driver's Vision Enhancer Wide (DVE Wide) improves survivability and mission capability by providing drivers with wider fields of view as well as the elimination of blind spots to safely navigate through dust, sand, haze, smoke, light fog and the blackest night. The front facing DVE Wide integrates three state-of-the-art 640 x 480, 17 µm uncooled infrared sensors, which output a stitched video of a 107 x 30 field of view (POV). The DVE Wide can receive, manage and display video from multiple external cameras on the vehicle. The driver can electronically pan through the 107° total horizontal field of view allowing the driver the ability to see both sides of the road. The vehicle wheel track indicators aid the driver in clearly identifying any potential impediments to safe operation. The DVE Wide is fully backwards compatible with all fielded DVE units, which means that any vehicle currently equipped with a DVE system can be readily upgraded. It is also forward compatible with new, high resolution, touch-screen displays. The DVE Wide is an UNCLASSIFIED system.

5. If a technologically advanced adversary were to obtain knowledge of the specific hardware and software elements of the M109A6, the information could be used to develop countermeasures or equivalent systems which might reduce weapon system effectiveness or be used in the development of a system with similar or advanced capabilities.

6. A determination has been made that Saudi Arabia can provide the same degree of protection for the sensitive technology being released as the U.S. Government. This sale is necessary in furtherance of the U.S. foreign policy and national security objectives outlined in the Policy Justification.

7. All defense articles and services listed in this transmittal have been authorized for release and export to the Kingdom of Saudi Arabia.

[FR Doc. 2018-08081 Filed 4-17-18; 8:45 am]

BILLING CODE 5001-06-P